NUCLEAR REGULATORY COMMISSION

[Docket No. 50-400]

Notice of Opportunity for Hearing, and Notice of Intent To Prepare an Environmental Impact Statement and Conduct the Scoping Process for Facility Operating License No. NPF-63 for an Additional 20-Year Period Carolina Power & Light Company Shearon Harris Nuclear Power Plant, Unit 1

The U.S. Nuclear Regulatory Commission (NRC or the Commission) is considering an application for the renewal of operating license NPF-63, which authorizes the Carolina Power & Light Company (CP&L), doing business as Progress Energy Carolinas, Inc., to operate the Shearon Harris Nuclear Power Plant, (HNP), Unit 1, at 2900 megawatts thermal. The renewed license would authorize the applicant to operate the HNP, Unit 1, for an additional 20 years beyond the period specified in the current license. HNP, Unit 1, is located in Wake County, North Carolina, and its current operating license expires on October 24, 2026.

On November 16, 2006, the Commission's staff received an application from CP&L to renew operating license NPF-63 for HNP, Unit 1, pursuant to Title 10 of the Code of Federal Regulations, Part 54 (10 CFR Part 54). A notice of receipt and availability of the license renewal application (LRA) was published in the Federal Register on December 11, 2006 (71 FR 71586). A notice of acceptance for docketing of the application for renewal of the facility operating license was published in the Federal Register on January 12, 2007, (72 FR 1562).

The license renewal process proceeds along two tracks, one for review of safety issues (10 CFR Part 54) and another for environmental issues (10 CFR Part 51). An applicant must provide the NRC an evaluation that addresses the technical aspects of plant aging and describes the aging management programs and activities that will be relied on to manage aging. In addition, to support plant operation for the additional 20 years, the licensee must prepare an evaluation of the potential impact on the environment. The NRC reviews the application, documents its reviews in a safety evaluation report and supplemental environmental impact statement, and performs verification inspections at the applicant's facilities. If the NRC approves a renewed license, the licensee must continue to comply with all existing regulations and commitments associated with the current operating license as well as those additional activities required as a result of license renewal. The licensee's activities continue to be subject to NRC oversight in the period of extended operation.

Before issuance of the requested renewed license, the NRC will have made the findings required by the Atomic Energy Act of 1954, as amended (the Act), and the Commission's rules and regulations. In accordance with 10 CFR 54.29, the NRC may issue a renewed license on the basis of its review if it finds that actions have been identified and have been or will be taken with respect to: (1) Managing the effects of aging during the period of extended operation on the functionality of structures and components that have been identified as requiring aging management review; and (2) time-limited aging analyses that have been identified as requiring review, such that there is reasonable assurance that the activities authorized by the renewed license will continue to be conducted in accordance with the current licensing basis (CLB), and that any changes made to the plant's CLB will comply with the Act and the Commission's regulations. In addition, the Commission must find that applicable requirements of Subpart A of 10 CFR Part 51 have been satisfied, and that matters raised under 10 CFR 2.335 have been addressed.

Within 60 days after the date of publication of this Federal Register notice, any person whose interest may be affected by this proceeding and who desires to participate as a party in the proceeding must file a written request for a hearing or a petition for leave to intervene with respect to the renewal of the license. Interested parties must file requests for a hearing or a petition for leave to intervene in accordance with the Commission's “Rules of Practice for Domestic Licensing Proceedings and Issuance of Orders” described in 10 CFR Part 2. Those interested should consult a current copy of 10 CFR 2.309, which is available at the Commission's Public Document Room (PDR), located at One White Flint North, 11555 Rockville Pike, Rockville, Maryland 20852 and is accessible through the Internet at http://www.nrc.gov/reading-rm/doc-collections/cfr/part002/part002-0309.html. Persons who do not have access to the Internet or who encounter problems in accessing the documents should contact the NRC's PDR Reference staff by telephone at 1-800-397-4209, or 301-415-4737, or via e-mail at PDR@nrc.gov. If a request for a hearing or a petition for leave to intervene is filed within the 60-day period, the Commission or a presiding officer designated by the Commission or by the Chief Administrative Judge of the Atomic Safety and Licensing Board Panel will rule on the request and/or petition, and the Secretary or the Chief Administrative Judge of the Atomic Safety and Licensing Board will issue a notice of a hearing or an appropriate order. If no request for a hearing or petition for leave to intervene is filed within the 60-day period, the NRC may, upon completion of its evaluations and upon making the findings required under 10 CFR Parts 51 and 54, renew the license without further notice.

As required by 10 CFR 2.309, a petition for leave to intervene shall set forth with particularity the interest of the petitioner in the proceeding, and how that interest may be affected by the results of the proceeding, taking into consideration the limited scope of matters that may be considered pursuant to 10 CFR Parts 51 and 54. The petition must specifically explain the reasons why intervention should be permitted with particular reference to: (1) The requester/petitioner's right under the Act to be made a party to the proceeding; (2) the nature and extent of the requester/petitioner's property, financial, or other interest in the proceeding; and (3) the possible effect of any decision or order which may be entered in the proceeding on the requester/petitioner's interest. The petition must also set forth the specific contentions that the petitioner/requester seeks to have litigated at the proceeding.

Each contention must consist of a specific statement of the issue of law or fact to be raised or controverted. In addition, the requester/petitioner shall briefly explain the bases of each contention and concisely state the alleged facts or the expert opinion that supports the contention on which the requester/petitioner intends to rely in proving the contention at the hearing. The requester/petitioner must also provide references to those specific sources and documents of which the requester/petitioner is aware and on which the requester/petitioner intends to rely to establish those facts or expert opinion. The requester/petitioner must provide sufficient information to show that a genuine dispute exists with the applicant on a material issue of law or fact. Contentions shall be limited to matters within the scope of the action under consideration. The contention must be one that, if proven, would entitle the requester/petitioner to relief. A requester/petitioner who fails to satisfy these requirements with respect to at least one contention will not be permitted to participate as a party.

The Commission requests that each contention be given a separate numeric or alpha designation within one of the following groups: (1) Technical (primarily related to safety concerns), (2) environmental, or (3) miscellaneous.

As specified in 10 CFR 2.309, if two or more requesters/petitioners seek to co-sponsor a contention or propose substantially the same contention, the requesters/petitioners must jointly designate a representative who shall have the authority to act for the requesters/petitioners with respect to that contention.

Those permitted to intervene become parties to the proceeding, subject to any limitations in the order granting leave to intervene, and have the opportunity to participate fully in the conduct of the hearing. A request for a hearing or a petition for leave to intervene must be filed by either: (1) First class mail addressed to the Office of the Secretary of the Commission, U.S. Nuclear Regulatory Commission, Washington, DC 20555-0001, Attention: Rulemaking and Adjudications Staff; (2) courier, express mail, and expedited delivery services to the Office of the Secretary, Sixteenth Floor, One White Flint North, 11555 Rockville Pike, Rockville, Maryland 20852, Attention: Rulemaking and Adjudications Staff; (3) e-mail addressed to the Office of the Secretary, U.S. Nuclear Regulatory Commission, hearingdocket@nrc.gov; or (4) facsimile transmission addressed to the Office of the Secretary, U.S. Nuclear Regulatory Commission, Washington, DC, Attention: Rulemaking and Adjudications Staff at 301-415-1101 (verification number is 301-415-1966).¹ Requesters/petitioners must send a copy of the request for hearing and petition for leave to intervene to the Office of the General Counsel, U.S. Nuclear Regulatory Commission, Washington, DC 20555-0001; copies should be transmitted either by facsimile to 301-415-3725 or via e-mail to OGCMailCenter@nrc.gov. Requesters/petitioners must also send a copy of the request for hearing and petition for leave to intervene to the attorney for the licensee, Mr. John H. O'Neil, Jr., Pillsbury Winthrop Shaw Pittman, 2300 N Street, NW., Washington, DC 20037.

¹ If the request/petition is filed by e-mail or facsimile, an original and two copies of the document must be mailed within 2 (two) business days thereafter to the Secretary, U.S. Nuclear Regulatory Commission, Washington, DC 20555-0001; Attention: Rulemaking and Adjudications Staff.

Untimely requests and/or petitions and contentions will not be entertained absent a determination by the Commission, the presiding officer, or the Atomic Safety and Licensing Board that the petition, request and/or contentions should be granted based on a balancing of the factors specified in 10 CFR 2.309(c)(1)(i) through (viii).

In addition, this notice informs the public that the NRC will be preparing an environmental impact statement (EIS) related to the review of the LRA and provides the public an opportunity to participate in the environmental scoping process, as defined in 10 CFR 51.29. In accordance with 10 CFR 51.95(c), the NRC will prepare an EIS that will be used as a supplement to the Commission's NUREG-1437, “Generic Environmental Impact Statement for License Renewal of Nuclear Plants” (GEIS), dated May 1996. Pursuant to 10 CFR 51.26, and as part of the environmental scoping process, the NRC staff intends to hold a public scoping meeting. In addition, as outlined in 36 CFR 800.8(c), “Coordination with the National Environmental Policy Act,” the NRC plans to coordinate compliance with Section 106 of the National Historic Preservation Act in meeting the requirements of the National Environmental Policy Act of 1969 (NEPA).

In accordance with 10 CFR 51.53(c) and 10 CFR 54.23, CP&L prepared and submitted the environmental report (ER) as part of the LRA. The LRA and the ER are publicly available at the NRC's PDR, located at One White Flint North, 11555 Rockville Pike, Rockville, Maryland 20852, or from ADAMS. The ADAMS Accession Numbers for the LRA and the ER are ML063350270 and ML063350276, respectively. The public may also view the LRA and the ER on the Internet at http://www.nrc.gov/reactors/operating/licensing/renewal/applications.html. In addition, the LRA and the ER are available to the public near HNP, Unit 1, at the Eva. H. Perry Library, 2100 Shepherd's Vineyard Drive, Apex, North Carolina 27502.

Alternatives to the proposed action include no action and reasonable alternative energy sources. The NRC is required by 10 CFR 51.95(c) to prepare a supplement to the GEIS in connection with the renewal of an operating license. This notice is being published in accordance with 10 CFR 51.26.

The NRC staff will first conduct a scoping process for the supplement to the GEIS and, as soon as practicable thereafter, will prepare a draft supplement to the GEIS for public comment. Participation in the scoping process by members of the public and local, State, tribal, and Federal Government agencies is encouraged. As described in 10 CFR 51.29, the NRC staff will use the scoping process for the supplement to the GEIS to accomplish the following:

a. Define the proposed action which is to be the subject of the supplement to the GEIS.

b. Determine the scope of the supplement to the GEIS and identify the significant issues to be analyzed in depth.

c. Identify and eliminate from detailed study those issues that are peripheral or insignificant.

d. Identify any environmental assessments and other ElSs that are being or will be prepared that are related to, but are not part of, the scope of the supplement to this GEIS.

e. Identify other environmental review and consultation requirements related to the proposed action.

f. Indicate the relationship between the timing of the preparation of the environmental analyses and the Commission's tentative planning and decision-making schedule.

g. Identify any cooperating agencies and, as appropriate, allocate assignments for preparation and schedules for completing the supplement to the GEIS to the NRC and any cooperating agencies.

h. Describe how the NRC will prepare the supplement to the GEIS and any contractor assistance to be used.

The NRC invites the following entities to participate in scoping:

a. The applicant, CP&L.

b. Any Federal agency that has jurisdiction by law or special expertise with respect to any environmental impact involved, or that is authorized to develop and enforce relevant environmental standards.

c. Affected State and local government agencies, including those authorized to develop and enforce relevant environmental standards.

d. Any affected Indian tribe.

e. Any person who requests or has requested an opportunity to participate in the scoping process.

f. Any person who has petitioned or intends to petition for leave to intervene.

In accordance with 10 CFR 51.26, the scoping process for an EIS may include a public scoping meeting to help identify significant issues related to a proposed activity and to determine the scope of issues to be addressed in an EIS. The NRC will hold public meetings for the HNP, Unit 1, license renewal supplement to the GEIS, at the New Horizons Fellowship, 820 East Williams St., Apex, North Carolina 27502 on Wednesday, April 18, 2007. There will be two identical meetings to accommodate interested parties. The first meeting will convene at 1:30 p.m. and will continue until 4:30 p.m., as necessary. The second meeting will convene at 7 p.m. and will continue until 10 p.m., as necessary. Both meetings will be transcribed and will include: (1) An overview by the NRC staff of the NRC's license renewal review process; (2) an overview by the NRC staff of the NEPA environmental review process, the proposed scope of the supplement to the GEIS, and the proposed review schedule; and (3) the opportunity for interested government agencies, organizations, and individuals to submit comments or suggestions on the environmental issues or the proposed scope of the supplement to the GEIS. Additionally, the NRC staff will host informal discussions 1 hour before the start of each session at the same location. The staff will not accept formal comments on the proposed scope of the supplement to the GEIS during these informal discussions. For comments to be considered, persons must provide them either at the transcribed public meetings or in writing, as discussed below.

For more information about the proposed action, the scoping process, and the EIS, interested persons should contact the NRC Environmental Project Manager, Mr. Samuel Hernandez, at Mail Stop O-11F1, U.S. Nuclear Regulatory Commission, 11555 Rockville Pike, Rockville, Maryland 20852; by telephone at 1-800-368-5642, extension 4049; or via e-mail at shq@nrc.gov. Persons may register to attend or present oral comments at the meetings on the scope of the NEPA review by contacting Mr. Hernandez. Members of the public may also register to speak at the meeting within 15 minutes of the start of each meeting. Individual oral comments may be limited by the time available, depending on the number of persons who register. Members of the public who have not registered may also have an opportunity to speak, if time permits. The NRC will consider public comments in the scoping process for the supplement to the GEIS. If members of the public need special equipment or accommodations to attend or present information at the public meeting, they should contact Mr. Hernandez no later than April 11, 2007, so that the NRC staff can determine if it can accommodate the request.

Members of the public may send written comments on the environmental scope of the HNP, Unit 1, license renewal review to: Chief, Rules and Directives Branch, Division of Administrative Services, Office of Administration, Mail Stop T-6D59, U.S. Nuclear Regulatory Commission, Washington, DC 20555-0001, and should cite the publication date and page number of this Federal Register notice. The public may also deliver comments to the U.S. Nuclear Regulatory Commission, Mail Stop T-6D59, Two White Flint North, 11545 Rockville Pike, Rockville, Maryland 20852, from 7:30 a.m. to 4:15 p.m. during Federal workdays. To be considered in the scoping process, written comments should be postmarked within 60 days after the date of publication of this Federal Register Notice. Electronic comments may be sent by e-mail to the NRC at ShearonHarrisEIS@nrc.gov, and should be sent no later than 60 days after the date of publication of this Federal Register Notice, to be considered in the scoping process. Comments will be available electronically and accessible through ADAMS.

Participation in the scoping process for the supplement to the GEIS does not entitle participants to become parties to the proceeding to which the supplement to the GEIS relates. Matters related to participation in any hearing are outside the scope of matters to be discussed at this public meeting.

At the conclusion of the scoping process, the NRC will prepare a concise summary of the determination and conclusions reached, including the significant issues identified, and will send a copy of the summary to each participant in the scoping process. The public may also view the summary in ADAMS. The staff will then prepare and issue for comment the draft supplement to the GEIS, which will be the subject of separate notices and separate public meetings. Copies will be available for public viewing at the above-mentioned addresses, and one copy per request will be provided free of charge, to the extent of supply. After receipt and consideration of the comments, the NRC will prepare a final supplement to the GEIS, which will also be available for public viewing.

Information about the supplement to the GEIS, and the scoping process may be obtained from Mr. Hernandez at the telephone number or e-mail address given previously.

Dated at Rockville, Maryland, this 14th day of March, 2007.
For the Nuclear Regulatory Commission.
Pao-Tsin Kuo,
Director, Division of License Renewal, Office of Nuclear Reactor Regulation.

[FR Doc. E7-5033 Filed 3-19-07; 8:45 am]

BILLING CODE 7590-01-P